DEPARTMENT OF AGRICULTURE

Natural Resources Conservation Service

Notice of Proposed Changes to Section IV of the Field Office Technical Guide (FOTG) of the Natural Resources Conservation Service in Indiana

AGENCY: Natural Resources Conservation Service, USDA.

ACTION: Notice of availability of proposed changes in Section IV of the FOTG of the NRCS in Indiana for review and comment.

SUMMARY: It is the intention of NRCS in Indiana to issue ten (10) revised and two (2) new conservation practice standards in Section IV of the FOTG. The revised standards are: Conservation Crop Rotation (328), Residue Management, Mulch-Till (329B), Residue Management, Ridge-Till (329C), Contour Buffer Strip (322), Residue Management, Seasonal (344), Riparian Forest Buffer (391), Recreation Land Grading and Shaping (566), Recreation Trail and Walkway (568), Nutrient Management (590), and Subsurface Drain (606). The new standards are: Cross Wind Trap Strips (589C) and Interim Standard Agrichemical Handling Facility (702). These practices may be used in conservation systems that treat highly erodible land and/or wetlands.

DATES: Comments will be received for a 30-day period commencing with the date of this publication.

FOR FURTHER INFORMATION CONTACT: Address all requests and comments to Jane E. Hardisty, State Conservationist, Natural Resources Conservation Service (NRCS), 6013 Lakeside Blvd., Indianapolis, Indiana 46278; telephone: 317-290-3200. Copies of this standard will be made available upon written request. You may submit your electronic requests and comments to Darrell.brown@in.usda.gov.

SUPPLEMENTARY INFORMATION: Section 343 of the Federal Agriculture Improvement and Reform Act of 1996 states that after enactment of the law, revisions made to NRCS state technical guides used to carry out highly erodible land and wetland provisions of the law, shall be made available for public review and comment. For the next 30 days, the NRCS in Indiana will receive comments relative to the proposed changes. Following that period, a determination will be made by the NRCS in Indiana regarding disposition of those comments and a final determination of changes will be made.

Dated: January 21, 2004.
Jane E. Hardisty,
State Conservationist, Indianapolis, Indiana.

[FR Doc. 04-2224 Filed 2-3-04; 8:45 am]

BILLING CODE 3410-16-P